DEPARTMENT OF DEFENSE

Department of the Air Force

HQ USAF Scientific Advisory Board Meeting

AGENCY: Department of the Air Force, DoD.

ACTION: Notice of meeting.

SUMMARY: Pursuant to Public Law 92-463, notice is hereby given of the forthcoming meeting of the Air Force Scientific Advisory Board. The purpose of the meeting is to convene the Air Force Command and Control Intelligence, Surveillance, and Reconnaissance Center (AFC2ISRC) Advisory Group to review Theater Battle Operations Net-centric Environment (TBONE) activities. Because classified and contractor-proprietary information will be discussed, this meeting will be closed to the public.

DATES: April 28-29, 2005.

ADDRESSES: HQ AFC2ISRC, 130 Andrews St., Ste 205, Langley AFB VA 23665-1993.

FOR FURTHER INFORMATION CONTACT: Major Chris Berg, Air Force Scientific Advisory Board Secretariat, 1180 Air Force Pentagon, Rm 5D982, Washington, DC 20330-1180, (703) 697-4811.

Albert Bodnar,
Air Force Federal Register Liaison Officer.

[FR Doc. 05-7285 Filed 4-11-05; 8:45 am]

BILLING CODE 5001-05-P